U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on March 8, 2018 on “China, the United States, and Next Generation Connectivity.”

DATES: The hearing is scheduled for Thursday, March 8, 2018 from 9:00 a.m. to 2:50 p.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale, 444 North Capitol Street NW, Suite 602, Washington DC 20001; telephone: 202-624-1496, or via email at ltisdale@uscc.gov. Reservations are not required to attend the hearing.

SUPPLEMENTARY INFORMATION:

Background: This is the third public hearing the Commission will hold during its 2018 report cycle. This hearing will compare and contrast U.S. and Chinese pursuit of next generation connected devices and networks and the implications for U.S. economic competitiveness and national security. The hearing will focus on U.S. and Chinese 5th generation wireless technology (5G) and Internet of Things standards and technology development, U.S. usage of Chinese Internet of Things technologies and 5G networks, and the ability of Chinese firms to collect and utilize data from U.S. consumers through Internet of Things technologies. The hearing will be co-chaired by Commissioner Michael Wessel and Commissioner Larry Wortzel. Any interested party may file a written statement by March 8, 2018, by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: February 16, 2018.
Kathleen Wilson,
Finance and Operations Director, U.S.-China Economic and Security Review Commission.

[FR Doc. 2018-03621 Filed 2-21-18; 8:45 am]

BILLING CODE 1137-00-P